ENVIRONMENTAL PROTECTION AGENCY

[FRL-7162-3]

Agency Information Collection Activities: Submission for OMB Review; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Title: Motor Vehicle Emission and Fuel Economy Compliance; Light Duty Vehicles, Light Duty Trucks and Motorcycles; OMB Control Number 2060-0104; expiration date March 31, 2002. The ICR describes the nature of the information collection and its expected burden and cost; where appropriate, it includes the actual data collection instrument. This ICR consolidates the following related ICRs; Motor Vehicle Exclusion Determination; OMB Control Number 2060-0124; National Low Emitting Vehicle Program; OMB Control Number 2060-0345; Selective Enforcement Audit; OMB Control Number 2060-0064; Emission Defect Information and Voluntary Emission Recall Reports for On-Highway, Light Duty Vehicles; OMB Control Number 2060-0425; Verification of Test Parameters and Parts Lists for Light Duty Vehicles and Light-Duty Trucks; OMB Control Number 2060-0094. The ICR describes the nature of the information collection and its expected burden and cost; where appropriate, it includes the actual data collection instrument.

DATES: Comments must be submitted on or before April 22, 2002.

ADDRESSES: Send comments, referring EPAICR No. 0783.42 and OMB Control No. 2060-0104, to the following addresses: Susan Auby, U.S. Environmental Protection Agency, Collection Strategies Division (Mail Code 2822), 1200 Pennsylvania Avenue, NW., Washington, DC 20460-0001; and to Office of Information and Regulatory Affairs, Office of Management Budget (OMB), Attention: Desk Officer for EPA, 725 17th Street, NW., Washington, DC 20503.

FOR FURTHER INFORMATION CONTACT: For a copy of the ICR contact Susan Auby at EPA by phone at (202) 260-4901, by e-mail at auby.susan@epamail.epa.gov or download off the Internet at http://www.epa.gov/icr and refer to EPA ICR No. 0783.42. For technical questions about the ICR contact Richard W. Nash, Certification and Compliance Division, 2565 Plymouth Road, Ann Arbor MI 48103, (734) 214-4412, nash.dick@epa.gov.

SUPPLEMENTARY INFORMATION: Title: Motor Vehicle Emission and Fuel Economy Compliance; Light Duty Vehicles, Light Duty Trucks and Motorcycles; OMB Control Number 2060-0104, EPA ICR Number 0783.42, expiration date March 30, 2002. This is a request for extension of a currently approved collection.

Abstract: EPA collects product information and test results from manufactures of passenger cars, light duty trucks and motorcycles. This information is used to verify that emission standards have been met prior to the vehicles being offered for sale and that fuel economy values are accurate. It is also used in selecting vehicles for audit testing. At the conclusion of a model year production figures and test results are reviewed to determine if fuel economy standards have been met.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published October 9, 2001, oral and written comments were receive.

Burden Statement: The annual public reporting and recordkeeping burden for this collection of information is estimated to average 7,343 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: 70.

Estimated Number of Respondents: 70.

Frequency of Response: Annually.

Estimated Total Annual Hour Burden: 514,000.

Estimated Total Annualized Capital, O&M Cost Burden: $7.1 million.

Send comments on the Agency's need for this information, the accuracy of the provided burden estimates, and any suggested methods for minimizing respondent burden, including through the use of automated collection techniques to the addresses listed above. Please refer to EPA ICR No. 0783.42 and OMB Control No. 2060-0104 in any correspondence.

Dated: March 15, 2002.
Oscar Morales,
Director, Collection Strategies Division.

[FR Doc. 02-6996 Filed 3-21-02; 8:45 am]

BILLING CODE 6560-50-M